DEPARTMENT OF TRANSPORTATION

Federal Highway Administration

Revised Notice of Intent

AGENCIES: The Federal Highway Administration (FHWA), DOT.

ACTION: Revised Notice of Intent

SUMMARY: FHWA is issuing this revised notice of intent to advise the public of modifications to the environmental review process for the US 219 Project in Garrett County, Maryland, and Somerset County, Pennsylvania. These modifications include a change in the lead Federal agency from the FHWA Pennsylvania Division Office to the FHWA DelMar Division Office and the intent of FHWA to utilize the environmental review provisions afforded under Section 6002 of the Safe, Accountable, Flexible, Efficient Transportation Equity Act: A Legacy for Users (SAFETEA-LU) and under Section 1319 of the Moving Ahead for the Progress in the 21st Century Act (MAP-21). This notice revises the NOI that was published in the Federal Register on October 17, 2003.

FOR FURTHER INFORMATION CONTACT: Nick Blendy, Environmental Protection Specialist, Federal Highway Administration, DelMar Division, (410) 962-4440, or email nick.blendy@dot.gov; Carmeletta Harris, MDSHA Project Manager 410-545-8522, or email: charris@sha.state.md.us; or Gregory Illig, P.E., PennDOT Senior Project Manager, 814-696-7170, or email: gillig@pa.gov.

SUPPLEMENTARY INFORMATION: On October 17, 2003, FHWA, in cooperation with MDSHA and PennDOT, issued an NOI to prepare an Environmental Impact Statement (EIS) for a proposed transportation project along Section 019 of U.S. 219. This section extends from the southern terminus of the Meyersdale Bypass in Somerset County, Pennsylvania to I-68 in Garrett County, Maryland. The US 219 project limits remain the same as previously proposed in 2003 and the total length of the project remains approximately 8 miles, with about 2.5 miles in Maryland and 5.5 miles in Pennsylvania.

The agencies will continue to work together to complete the environmental review process and move the project forward within a reasonable and feasible timeframe. This will accomplish the goals of Section 1528 of MAP-21, which addresses the Appalachian Development Highway System (ADHS) and timely completion of the designated ADHS in 13 States that comprise the Appalachian region. The EIS will utilize and update data and information developed since the 2003 NOI was published, including the project purpose and need and alternatives, which were developed as a result of agency coordination and public input. The US 219 project is currently funded for project planning only and is intended to advance the project to a draft EIS and final EIS including consideration of new alternatives based on public and agency comments. The US 219 Project Public Involvement Program and coordination with Federal, state, and local agencies that began in 2003 will continue. To ensure that a full range of alternatives or issues related to this proposed action are addressed and all significant issues are identified, comments and suggestions are invited from all interested parties. Comments or questions concerning the proposed actions for the project should be directed to FHWA, MDSHA, or PennDOT at the contact information provided above.

Gregory Murrill,
DelMar Division, Administrator, Maryland, Baltimore, Maryland.

[FR Doc. 2014-17375 Filed 7-22-14; 8:45 am]

BILLING CODE 4910-22-P